ENVIRONMENTAL PROTECTION AGENCY

40 CFR Parts 50 and 51

[EPA-HQ-OAR-2016-0347; FRL-9974-55-OAR]

RIN 2060-AT35

Response to June 1, 2016, Clean Air Act Section 126(b) Petition From Connecticut

AGENCY: Environmental Protection Agency (EPA).

ACTION: Notice of public hearing.

SUMMARY: The Environmental Protection Agency (EPA) is announcing that a public hearing will be held on the EPA's proposed response to a June 1, 2016, petition submitted by the state of Connecticut pursuant to section 126 of the Clean Air Act (CAA). The petition requests that the EPA make a finding that the Brunner Island Steam Electric Station located in York County, Pennsylvania, emits air pollution in amounts that significantly contribute to nonattainment or interfere with maintenance of the 2008 ozone national ambient air quality standard (NAAQS) in Connecticut. The hearing will be held on February 23, 2018, in Washington, DC. The EPA will issue its proposed response in the near future.

DATES: The public hearing will be held on February 23, 2018, in Washington, DC. Please refer to SUPPLEMENTARY INFORMATION for additional information on the public hearing.

ADDRESSES:

Public Hearing. The February 23, 2018 public hearing will be held at the EPA, William Jefferson Clinton East Building, Room 1153, 1201 Constitution Avenue NW, Washington, DC 20004. Identification is required. If your driver's license is issued by Michigan, Minnesota, New York, Vermont or the state of Washington, you must present an additional form of identification to enter (see SUPPLEMENTARY INFORMATION for additional information on this location).

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at EPA Docket Center Reading Room, William Jefferson Clinton West Building, 1301 Constitution Avenue NW, Washington, DC 20004. The Public Reading Room is open from 8:30 a.m. to 4:30 p.m., Monday through Friday, excluding legal holidays. The phone number for the Public Reading Room is (202) 566-1744.

FOR FURTHER INFORMATION CONTACT: If you would like to speak at the public hearing, please contact Ms. Pamela Long, U.S. Environmental Protection Agency, Office of Air Quality Planning and Standards (OAQPS), Air Quality Planning Division (C504-01), Research Triangle Park, NC 27711, telephone (919) 541-0641, fax number (919) 541-5509, email address long.pam@epa.gov, no later than February 21, 2018. If you have any questions relating to the public hearing, please contact Ms. Long at the above number.

If you have questions concerning the June 1, 2016 petition, please contact Mr. Lev Gabrilovich, U.S. Environmental Protection Agency, Office of Air Quality Planning and Standards (OAQPS), Air Quality Planning Division, (C539-01), Research Triangle Park, NC 27711, telephone (919) 541-1496, email address gabrilovich.lev@epa.gov.

SUPPLEMENTARY INFORMATION: The public hearing will provide interested parties the opportunity to present data, views, or arguments concerning the EPA's proposed response to the June 1, 2016, petition. The EPA may ask clarifying questions during the oral presentations, but will not respond to the presentations at that time. Written statements and supporting information that are submitted during the comment period will be considered with the same weight as any oral comments and supporting information presented at the public hearing. Written comments must be postmarked by the last day of the comment period.

The public hearing will convene at 9:00 a.m. and end at 6:00 p.m. Eastern Time (ET) or at least two hours after the last registered speaker has spoken. The EPA will make every effort to accommodate all individuals interested in providing oral testimony. A lunch break is scheduled from 12:00 p.m. until 1:00 p.m. Please note that this hearing will be held at a U.S. government facility. Individuals planning to attend the hearing should be prepared to show valid picture identification to the security staff in order to gain access to the meeting room. The REAL ID Act, passed by Congress in 2005, established new requirements for entering federal facilities. These requirements took effect July 21, 2014. If your driver's license is issued by the states of Michigan, Minnesota, New York, Vermont or Washington, you must present an additional form of identification to enter the federal building where the public hearing will be held. Acceptable alternative forms of identification include: Federal employee badges, passports, enhanced driver's licenses and military identification cards. For additional information for the status of your state regarding REAL ID, go to http://www.dhs.gov/real-id-enforcement-brief. In addition, you will need to obtain a property pass for any personal belongings you bring with you. Upon leaving the building, you will be required to return this property pass to the security desk. No large signs will be allowed in the building, and demonstrations will not be allowed on federal property for security reasons.

If you would like to present oral testimony at the hearing, please notify Ms. Pamela Long, U.S. Environmental Protection Agency, OAQPS, Air Quality Planning Division, (C504-01), Research Triangle Park, NC 27711, telephone (919) 541-0641, fax number (919) 541-5509, email address long.pam@epa.gov, no later than 4:00 p.m. ET on February 21, 2018. Ms. Long will arrange a general time slot for you to speak. The EPA will make every effort to follow the schedule as closely as possible on the day of the hearing.

Oral testimony will be limited to 5 minutes for each commenter. The EPA encourages commenters to provide the EPA with a copy of their oral testimony electronically (via email) or in hard copy form. The EPA will not provide audiovisual equipment for presentations unless we receive special requests in advance. Commenters should notify Ms. Long if they will need specific equipment. Commenters should also notify Ms. Long if they need specific translation services for non-English speaking commenters.

The hearing schedule, including the list of speakers, will be posted on the EPA's Web at site https://www.epa.gov/ozone-pollution/connecticut-126-petition prior to the hearing. Verbatim transcripts of the hearing and written statements will be included in the docket for the action.

How can I get copies of this document and other related information?

The EPA has established a docket for this action under Docket ID No. EPA-HQ-OAR-2016-0347 (available at http://www.regulations.gov). The EPA has made available information related to the proposed action at this website: https://www.epa.gov/ozone-pollution/connecticut-126-petition.

Panagiotis E. Tsirigotis,
Director, Office of Air Quality Planning and Standards.

[FR Doc. 2018-03171 Filed 2-13-18; 8:45 am]

BILLING CODE 6560-50-P